DEPARTMENT OF DEFENSE

Department of the Air Force

[25-0005956-AFRL/RQ Bravo Data Systems]

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive (the field to include NAICS code industry sectors: 22 Utilities; 31-33 Manufacturing; 54 Professional, Scientific, and Technical Services; 92 Public Administration patent license to Bravo Data Systems, having a place of business at 2673 Big Woods Trail, Beavercreek, OH 45431.

DATES: Written objections must be filed no later than fifteen (15) calendar days after the date of publication of this Notice.

ADDRESSES: Submit written objections to Joshua Laravie, AFRL/RQ; 2130 8th Street, Wright-Patterson AFB, OH 45433; Ph: 937-266-9023; Email: afrl.rq.orta@us.af.mil. Include Docket No. 25-0005956-AFRL/RQ in the subject line of the message.

FOR FURTHER INFORMATION CONTACT: Joshua Laravie, AFRL/RQ; 2130 8th Street, Wright-Patterson AFB, OH 45433; Ph: 937-266-9023; Email: afrl.rq.orta@us.af.mil.

Abstract of patent application(s): An instrumented wind tunnel. The wind tunnel receives a test subject which can be a model of an object to be tested with dynamic airflow. The test subject is fitted with at least one sensor to deliver data to a chassis, which in turn uses a network having at least 10 Gb/s capability to deliver the data to a RAM cache. The RAM cache can push the data to multiple viewers for real time monitoring of wind tunnel tests. The operator can then make live adjustments of the test conditions.

Intellectual property: U.S. Patent No. 11,933,694, issued on Mar. 19, 2024 and entitled WIND TUNNEL HAVING LOW LATENCY DATA PUBLISHING.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Crystle C. Poge,
Air Force Federal Register Liaison Officer.

[FR Doc. 2025-22173 Filed 12-5-25; 8:45 am]

BILLING CODE 3911-44-P